DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of an entity whose property and interests in property have been unblocked and who has been removed from OFAC's Specially Designated Nationals and Blocked Persons List (“SDN List”). OFAC is also updating one individual's entry on the SDN List. All property and interests in property subject to U.S. jurisdiction of this individual remain blocked, and U.S. persons are generally prohibited from engaging in transactions with this individual.

DATES: This action was issued on March 21, 2025. See Supplementary Information section.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

a. On March 21, 2025, OFAC removed from the SDN List the entity listed below, whose property and interests in property were blocked pursuant to Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR, 2016 Comp., p. 659 (E.O. 13694, as amended), and Executive Order 13722 of March 15, 2016, “Blocking Property of the Government of North Korea and the Workers' Party of Korea, and Prohibiting Certain Transactions with Respect to North Korea,” 81 FR 14943, 3 CFR, 2016 Comp., p. 446 (E.O. 13722). This entity is no longer subject to the blocking provisions of E.O. 13694, as amended, or E.O. 13722.

Entity

TORNADO CASH; website tornado.cash; Digital Currency Address—ETH 0x12D66f87A04A9E220743712cE6d9bB1B5616B8Fc; alt. Digital Currency Address—ETH 0x47CE0C6eD5B0Ce3d3A51fdb1C52DC66a7c3c2936; alt. Digital Currency Address—ETH 0x910Cbd523D972eb0a6f4cAe4618aD62622b39DbF; alt. Digital Currency Address—ETH 0xA160cdAB225685dA1d56aa342Ad8841c3b53f291; alt. Digital Currency Address—ETH 0xD4B88Df4D29F5CedD6857912842cff3b20C8Cfa3; alt. Digital Currency Address—ETH 0xFD8610d20aA15b7B2E3Be39B396a1bC3516c7144; alt. Digital Currency Address—ETH 0x07687e702b410Fa43f4cB4Af7FA097918ffD2730; alt. Digital Currency Address—ETH 0x23773E65ed146A459791799d01336DB287f25334; alt. Digital Currency Address—ETH 0x22aaA7720ddd5388A3c0A3333430953C68f1849b; alt. Digital Currency Address—ETH 0x03893a7c463AE47D46bc7f091665f1893656003; alt. Digital Currency Address—ETH 0x2717c5e28cf931547B621a5dddb772Ab6A35B701; alt. Digital Currency Address—ETH 0xD21be7248e0197Ee08E0c20D4a96DEBdaC3D20Af; alt. Digital Currency Address—ETH 0x4736dCf1b7A3d580672CcE6E7c65cd5cc9cFBa9D; alt. Digital Currency Address—ETH 0xDD4c48C0B24039969fC16D1cdF626eaB821d3384; alt. Digital Currency Address—ETH 0xd96f2B1c14Db8458374d9Aca76E26c3D18364307; alt. Digital Currency Address—ETH 0x169AD27A470D064DEDE56a2D3ff727986b15D52B; alt. Digital Currency Address—ETH 0x0836222F2B2B24A3F36f98668Ed8F0B38D1a872f; alt. Digital Currency Address—ETH 0x178169B423a011fff22B9e3F3abeA13414dDD0F1; alt. Digital Currency Address—ETH 0x610B717796ad172B316836AC95a2ffad065CeaB4; alt. Digital Currency Address—ETH 0xbB93e510BbCD0B7beb5A853875f9eC60275CF498; alt. Digital Currency Address—ETH 0x84443CFd09A48AF6eF360C6976C5392aC5023a1F; alt. Digital Currency Address—ETH 0xd47438C816c9E7f2E2888E060936a499Af9582b3; alt. Digital Currency Address—ETH 0x330bdFADE01eE9bF63C209Ee33102DD334618e0a; alt. Digital Currency Address—ETH 0x1E34A77868E19A6647b1f2F47B51ed72dEDE95DD; alt. Digital Currency Address—ETH 0xdf231d99Ff8b6c6CBF4E9B9a945CBAcEF9339178; alt. Digital Currency Address—ETH 0xaf4c0B70B2Ea9FB7487C7CbB37aDa259579fe040; alt. Digital Currency Address—ETH 0xa5C2254e4253490C54cef0a4347fddb8f75A4998; alt. Digital Currency Address—ETH 0xaf8d1839c3c67cf571aa74B5c12398d4901147B3; alt. Digital Currency Address—ETH 0x6Bf694a291DF3FeC1f7e69701E3ab6c592435Ae7; alt. Digital Currency Address—ETH 0x3aac1cC67c2ec5Db4eA850957b967Ba153aD6279; alt. Digital Currency Address—ETH 0x723B78e67497E85279CB204544566F4dC5d2acA0; alt. Digital Currency Address—ETH 0x0E3A09dDA6B20aFbB34aC7cD4A6881493f3E7bf7; alt. Digital Currency Address—ETH 0x76D85B4C0Fc497EeCc38902397aC608000A06607; alt. Digital Currency Address—ETH 0xCC84179FFD19A1627E79F8648d09e095252Bc418; alt. Digital Currency Address—ETH 0xD5d6f8D9e784d0e26222ad3834500801a68D027D; alt. Digital Currency Address—ETH 0x407CcEeaA7c95d2FE2250Bf9F2c105aA7AAFB512; alt. Digital Currency Address—ETH 0x833481186f16Cece3f1Eeea1a694c42034c3a0dB; alt. Digital Currency Address—ETH 0xd8D7DE3349ccaA0Fde6298fe6D7b7d0d34586193; alt. Digital Currency Address—ETH 0x8281Aa6795aDE17C8973e1aedcA380258Bc124F9; alt. Digital Currency Address—ETH 0x57b2B8c82F065de8Ef5573f9730fC1449B403C9f; alt. Digital Currency Address—ETH 0x05E0b5B40B7b66098C2161A5EE11C5740A3A7C45; alt. Digital Currency Address—ETH 0x23173fE8b96A4Ad8d2E17fB83EA5dcccdCa1Ae52; alt. Digital Currency Address—ETH 0x538Ab61E8A9fc1b2f93b3dd9011d662d89bE6FE6; alt. Digital Currency Address—ETH 0x94Be88213a387E992Dd87DE56950a9aef34b9448; alt. Digital Currency Address—ETH 0x242654336ca2205714071898f67E254EB49ACdCe; alt. Digital Currency Address—ETH 0x776198CCF446DFa168347089d7338879273172cF; alt. Digital Currency Address—ETH 0xeDC5d01286f99A066559F60a585406f3878a033e; alt. Digital Currency Address—ETH 0xD692Fd2D0b2Fbd2e52CFa5B5b9424bC981C30696; alt. Digital Currency Address—ETH 0xca0840578f57fe71599d29375e16783424023357; alt. Digital Currency Address—ETH 0xDF3A408c53E5078af6e8fb2A85088D46Ee09A61b; alt. Digital Currency Address—ETH 0x743494b60097A2230018079c02fe21a7B687EAA5; alt. Digital Currency Address—ETH 0x94C92F096437ab9958fC0A37F09348f30389Ae79; alt. Digital Currency Address—ETH 0x5efda50f22d34F262c29268506C5Fa42cB56A1Ce; alt. Digital Currency Address—ETH 0x2f50508a8a3d323b91336fa3ea6ae50e55f32185; alt. Digital Currency Address—ETH 0xCEe71753C9820f063b38FDbE4cFDAf1d3D928A80; alt. Digital Currency Address—ETH 0xffbac21a641dcfe4552920138d90f3638b3c9fba; alt. Digital Currency Address—ETH 0x179f48c78f57a3a78f0608cc9197b8972921d1d2; alt. Digital Currency Address—ETH 0xb04E030140b30C27bcdfaafFFA98C57d80eDa7B4; alt. Digital Currency Address—ETH 0x77777feddddffc19ff86db637967013e6c6a116c; alt. Digital Currency Address—ETH 0x3efa30704d2b8bbac821307230376556cf8cc39e; alt. Digital Currency Address—ETH 0x746aebc06d2ae31b71ac51429a19d54e797878e9; alt. Digital Currency Address—ETH 0xd90e2f925DA726b50C4Ed8D0Fb90Ad053324F31b; alt. Digital Currency Address—ETH 0x5f6c97C6AD7bdd0AE7E0Dd4ca33A4ED3fDabD4D7; alt. Digital Currency Address—ETH 0xf4B067dD14e95Bab89Be928c07Cb22E3c94E0DAA; alt. Digital Currency Address—ETH 0x58E8dCC13BE9780fC42E8723D8EaD4CF46943dF2; alt. Digital Currency Address—ETH 0x01e2919679362dFBC9ee1644Ba9C6da6D6245BB1; alt. Digital Currency Address—ETH 0x2FC93484614a34f26F7970CBB94615bA109BB4bf; alt. Digital Currency Address—ETH 0x26903a5a198D571422b2b4EA08b56a37cbD68c89; alt. Digital Currency Address—ETH 0xB20c66C4DE72433F3cE747b58B86830c459CA911; alt. Digital Currency Address—ETH 0x2573BAc39EBe2901B4389CD468F2872cF7767FAF; alt. Digital Currency Address—ETH 0x527653eA119F3E6a1F5BD18fbF4714081D7B31ce; alt. Digital Currency Address—ETH 0x653477c392c16b0765603074f157314Cc4f40c32; alt. Digital Currency Address—ETH 0x88fd245fEdeC4A936e700f9173454D1931B4C307; alt. Digital Currency Address—ETH 0x09193888b3f38C82dEdfda55259A82C0E7De875E; alt. Digital Currency Address—ETH 0x5cab7692D4E94096462119ab7bF57319726Eed2A; alt. Digital Currency Address—ETH 0x756C4628E57F7e7f8a459EC2752968360Cf4D1AA; alt. Digital Currency Address—ETH 0x722122dF12D4e14e13Ac3b6895a86e84145b6967; alt. Digital Currency Address—ETH 0x94A1B5CdB22c43faab4AbEb5c74999895464Ddaf; alt. Digital Currency Address—ETH 0xb541fc07bC7619fD4062A54d96268525cBC6FfEF; alt. Digital Currency Address—ETH 0xD82ed8786D7c69DC7e052F7A542AB047971E73d2; alt. Digital Currency Address—ETH 0xF67721A2D8F736E75a49FdD7FAd2e31D8676542a; alt. Digital Currency Address—ETH 0x9AD122c22B14202B4490eDAf288FDb3C7cb3ff5E; alt. Digital Currency Address—ETH 0xD691F27f38B395864Ea86CfC7253969B409c362d; alt. Digital Currency Address—ETH 0xaEaaC358560e11f52454D997AAFF2c5731B6f8a6; alt. Digital Currency Address—ETH 0x1356c899D8C9467C7f71C195612F8A395aBf2f0a; alt. Digital Currency Address—ETH 0xA60C772958a3eD56c1F15dD055bA37AC8e523a0D; alt. Digital Currency Address—ETH 0xBA214C1c1928a32Bffe790263E38B4Af9bFCD659; alt. Digital Currency Address—ETH 0xb1C8094B234DcE6e03f10a5b673c1d8C69739A00; alt. Digital Currency Address—ETH 0xF60dD140cFf0706bAE9Cd734Ac3ae76AD9eBC32A; alt. Digital Currency Address—ETH 0x8589427373D6D84E98730D7795D8f6f8731FDA16; Secondary sanctions risk: North Korea Sanctions Regulations, sections 510.201 and 510.210; Transactions Prohibited For Persons Owned or Controlled By U.S. Financial Institutions: North Korea Sanctions Regulations section 510.214; Organization Established Date 2019 [DPRK3] [CYBER2].

b. On March 21, 2025, OFAC amended the following individual's entry on the SDN List to remove one of the bases for designation. Therefore, the individual's entry on the SDN List is updated as identified below.

Individual

—From—

SEMENOV, Roman (a.k.a. “POMA”; a.k.a. “ROMA”), Dubai, United Arab Emirates; DOB 08 Nov 1987; nationality Russia; Email Address semenov.roma@gmail.com; alt. Email Address semenovroma@gmail.com; alt. Email Address semenov.roman@mail.ru; alt. Email Address poma@tornado.cash; Gender Male; Digital Currency Address—ETH 0xdcbEfFBECcE100cCE9E4b153C4e15cB885643193; alt. Digital Currency Address—ETH 0x5f48c2a71b2cc96e3f0ccae4e39318ff0dc375b2; alt. Digital Currency Address—ETH 0x5a7a51bfb49f190e5a6060a5bc6052ac14a3b59f; alt. Digital Currency Address—ETH 0xed6e0a7e4ac94d976eebfb82ccf777a3c6bad921; alt. Digital Currency Address—ETH 0x797d7ae72ebddcdea2a346c1834e04d1f8df102b; alt. Digital Currency Address—ETH 0x931546D9e66836AbF687d2bc64B30407bAc8C568; alt. Digital Currency Address—ETH 0x43fa21d92141BA9db43052492E0DeEE5aa5f0A93; alt. Digital Currency Address—ETH 0x6be0ae71e6c41f2f9d0d1a3b8d0f75e6f6a0b46e; Secondary sanctions risk: North Korea Sanctions Regulations, sections 510.201 and 510.210; Transactions Prohibited For Persons Owned or Controlled By U.S. Financial Institutions: North Korea Sanctions Regulations section 510.214; Passport 731969851 (Russia) (individual) [DPRK3] [CYBER2].

—To—

SEMENOV, Roman (a.k.a. “POMA”; a.k.a. “ROMA”), Dubai, United Arab Emirates; DOB 08 Nov 1987; nationality Russia; Email Address semenov.roma@gmail.com; alt. Email Address semenovroma@gmail.com; alt. Email Address semenov.roman@mail.ru; alt. Email Address poma@tornado.cash; Gender Male; Digital Currency Address—ETH 0xdcbEfFBECcE100cCE9E4b153C4e15cB885643193; alt. Digital Currency Address—ETH 0x5f48c2a71b2cc96e3f0ccae4e39318ff0dc375b2; alt. Digital Currency Address—ETH 0x5a7a51bfb49f190e5a6060a5bc6052ac14a3b59f; alt. Digital Currency Address—ETH 0xed6e0a7e4ac94d976eebfb82ccf777a3c6bad921; alt. Digital Currency Address—ETH 0x797d7ae72ebddcdea2a346c1834e04d1f8df102b; alt. Digital Currency Address—ETH 0x931546D9e66836AbF687d2bc64B30407bAc8C568; alt. Digital Currency Address—ETH 0x43fa21d92141BA9db43052492E0DeEE5aa5f0A93; alt. Digital Currency Address—ETH 0x6be0ae71e6c41f2f9d0d1a3b8d0f75e6f6a0b46e; Secondary sanctions risk: North Korea Sanctions Regulations, sections 510.201 and 510.210; Transactions Prohibited For Persons Owned or Controlled By U.S. Financial Institutions: North Korea Sanctions Regulations section 510.214; Passport 731969851 (Russia) (individual) [DPRK3].

Lisa M. Palluconi,
Acting Director, Office of Foreign Assets Control.

[FR Doc. 2025-05096 Filed 3-25-25; 8:45 am]

BILLING CODE 4810-AL-P